DEPARTMENT OF TRANSPORTATION

National Highway Traffic Safety Administration

49 CFR Parts 571 and 572

[Docket No. NHTSA-2025-0046]

RIN 2127-AM62

Federal Motor Vehicle Safety Standard No. 213a; Child Restraint Systems—Side Impact Protection; Federal Motor Vehicle Safety Standard No. 213; Child Restraint Systems, Federal Motor Vehicle Safety Standard No. 213b; Child Restraint Systems

AGENCY: National Highway Traffic Safety Administration (NHTSA), Department of Transportation (DOT).

ACTION: Notice of enforcement discretion.

SUMMARY: This notice announces that NHTSA will not take enforcement action against regulated entities for failing to comply with Federal Motor Vehicle Safety Standard (FMVSS) No. 213a, Child restraint systems—side impact protection until the publication of any final rule finalizing NHTSA's May 30, 2025 proposal.

DATES: This notice of enforcement discretion is effective from June 30, 2025, until the date of publication of any rule finalizing NHTSA's May 30, 2025 proposal.

FOR FURTHER INFORMATION CONTACT: For technical issues, you may contact Cristina Echemendia, Office of Crashworthiness Standards (email: Cristina.Echemendia@dot.gov). For legal issues, you may contact John Piazza, Office of Chief Counsel (email: John.Piazza@dot.gov). You can reach these officials by phone at 202-366-1810. Address: National Highway Traffic Safety Administration, U.S. Department of Transportation, 1200 New Jersey Avenue SE, West Building, Washington, DC 20590.

Electronic Access and Filing: This document, the notice of proposed rulemaking (NPRM), all comments received, and all background material may be viewed online at www.regulations.gov using the docket number listed above. Electronic retrieval help and guidelines are available on the website. An electronic copy of this document may also be downloaded from the Office of the Federal Register's website at www.federalregister.gov and the Government Publishing Office's website at www.Govinfo.gov.

SUPPLEMENTARY INFORMATION:

Background

On June 30, 2022, NHTSA published a new side impact standard, FMVSS No. 213a, “Child restraint systems—side impact protection.” ¹ NHTSA set a compliance date of June 30, 2025, when issuing this standard. On May 30, 2025, NHTSA published a notice of proposed rulemaking (NPRM) to amend the agency's safety standards for child restraint systems (CRSs), including FMVSS No. 213a.² The comment period for the NPRM closes on June 30, 2025.

¹ 87 FR 39234.

² 90 FR 23009.

The NPRM included, among other things, two proposals regarding compliance with the new side impact standard, FMVSS No. 213a; Child restraint systems—side impact protection. First, NHTSA proposed to exempt certain CRSs manufactured exclusively for use on school buses from FMVSS No. 213a. In the NPRM, NHTSA explained that while the side impact standard currently exempts harnesses and car beds, it does not currently exempt school bus child restraints that are not harnesses. NHTSA also proposed to exempt school bus CRSs that are not harnesses from the standard because it tentatively believed that it is not practicable for these CRSs to meet the proposed requirements and because they serve a niche market not currently met by other types of CRSs. NHTSA also recognized that the side impact crash environment of a school bus differs significantly from the simulated side impact test in FMVSS No. 213a.³

³ For a more detailed discussion of this and the proposed amendment to the compliance date discussed below, please see the NPRM.

Second, in the NPRM, NHTSA proposed to delay the compliance date for FMVSS No. 213a from June 30, 2025 to December 5, 2026.⁴ In the proposal, NHTSA considered this delay warranted for several reasons. The side impact standard is new and broadly applicable, meaning CRS manufacturers must certify most, if not all, of their products to a variety of new requirements. The agency understands this takes a significant amount of testing for research, development, and certification. Such increased demand limits some manufacturers' access to test facilities, further complicating their ability to prepare to certify to a new standard.

⁴ The proposed revised compliance date of December 5, 2026, would coincide with the compliance date for the FMVSS No. 213b companion upgrade of the CRS standards.

In the proposal, NHTSA considered the new standard still capable of significant safety benefits in the long term, but the near-term inability of some manufacturers to complete the development of compliant seats in time could create new safety problems by reducing the availability of new CRSs. Information received from some CRS manufacturers and other stakeholders, such as in comments received thus far to the NPRM and in a petition for reconsideration that predated the NPRM, indicate that the current compliance date of June 30, 2025 will likely reduce the availability of new CRSs in the market. This is because some manufacturers may have no option other than to cease manufacturing CRSs because they cannot comply with the side impact standard by June 30, 2025.

In the proposal, NHTSA expressed concern about the overall safety effects if some consumers lose access to these safety devices in the future due to limits on the availability of new CRSs. The safety consequences of reduced availability of CRSs can be mitigated if manufacturers have more time to test and certify their applicable products to the side impact standard to ensure currently compliant CRSs remain available on the market. Moreover, for school bus CRSs, the current compliance date may result in requirements being imposed for a short period of time, given that the agency is engaged in a rulemaking proceeding that proposes to exempt those devices from the standard.

Statement of Temporary Enforcement Policy

NHTSA recognizes that because the date on which the comment period closes is the same as the compliance date for FMVSS No. 213a, it will not be possible to publish a final rule prior to the current compliance date. NHTSA is concerned that the regulatory uncertainty likely to arise for the period of time in between the June 30 compliance date and any published final rule will lead to a decrease in overall levels of CRS safety as fewer CRS options are available for the public.

Considering these factors and the information available to NHTSA at this time, NHTSA believes that the public interest would be best served by NHTSA exercising its discretion to temporarily pause enforcement of the applicability of FMVSS No. 213a for CRSs produced on or after June 30, 2025, and until the date of publication of any rule finalizing NHTSA's May 30, 2025 proposal. NHTSA emphasizes, however, that under 49 U.S.C. 30115(a), a manufacturer may not certify to a standard if, in exercising reasonable care, the manufacturer has reason to know that the certification is false or misleading in a material respect. As such, even while the enforcement of the applicability of FMVSS No. 213a is paused, if a manufacturer continues to certify to the standard, the manufacturer must have a good faith basis that the CRS meets the standard. Similarly, manufacturers should not market or otherwise describe their products as meeting FMVSS No. 213a unless they are certifying to the standard. This pause affects only whether a CRS must be certified to FMVSS No. 213a, and NHTSA intends to continue enforcement of certification to FMVSS No. 213 and FMVSS No. 213b.

The exercise of enforcement discretion herein creates no individual right of action and is not intended to bind NHTSA or otherwise establish precedent for future determinations. This temporary policy is based on the information currently before the agency. The comment period on the NPRM remains open until June 30, 2025, and NHTSA intends to carefully consider all comments received (including any late comments to the extent practicable) before issuing a final rule, if appropriate. As such, this temporary policy is intended to address the near-term safety consequences that would otherwise arise before a final rule. It does not prejudge the ultimate outcome on any of the issues within the scope of the May 30 NPRM.

Issued in Washington, DC, under authority delegated in 49 CFR 1.95, 501.4, and 501.5.
Peter Simshauser,
Chief Counsel.

[FR Doc. 2025-12311 Filed 7-1-25; 8:45 am]

BILLING CODE P